DEPARTMENT OF COMMERCE

International Trade Administration

[A-549-822]

Certain Frozen Warmwater Shrimp From Thailand: Final Results of Antidumping Duty Administrative Review; 2023-2024

AGENCY: Enforcement and Compliance, International Trade Administration, Department of Commerce.

SUMMARY: The U.S. Department of Commerce (Commerce) determines that certain producers/exporters subject to this administrative review made sales of certain frozen warmwater shrimp (shrimp) from Thailand at less than normal value during the period of review (POR), February 1, 2023, through January 31, 2024.

DATES: Applicable February 20, 2026.

FOR FURTHER INFORMATION CONTACT: Gregory Taushani or Carter Sherwin, AD/CVD Operations, Office II, Enforcement and Compliance, International Trade Administration, U.S. Department of Commerce, 1401 Constitution Avenue NW, Washington, DC 20230; telephone: (202) 482-1012 or (202)-482-4260, respectively.

SUPPLEMENTARY INFORMATION:

Background

On June 11, 2025, Commerce published the Preliminary Results in the Federal Register, and invited interested parties to comment.¹ On August 6, 2025, Commerce issued a Post-Preliminary Analysis that made changes to the differential pricing analysis method utilized in the Preliminary Results.² We invited interested parties to comment on the Post-Preliminary Analysis.³ On June 23 through 27, 2025, Commerce conducted verification of Thai Union's ⁴ questionnaire responses.⁵ On September 17, 2025, Commerce extended the deadline for these final results to December 8, 2025.⁶

¹ See Certain Frozen Warmwater Shrimp from Thailand; Preliminary Results of Antidumping Duty Administrative Review, Rescission of Review, in Part, and Preliminary Determination of No Shipments; 2023-2024, 90 FR 24572, 24574 (June 11, 2025) (Preliminary Results), and accompanying Preliminary Decision Memorandum.

² See Memorandum, “Post-Preliminary Analysis,” dated August 6, 2025 (Post-Preliminary Analysis).

³ See Memorandum, “Briefing Schedule for Post-Preliminary Determination,” dated August 7, 2025.

⁴ In the 2012-2013 administrative review, Commerce found that the following companies comprised a single entity: Thai Union Frozen Products Public Co. Ltd.; Thai Union Seafood Co., Ltd.; Pakfood Public Company Limited; Asia Pacific (Thailand) Co., Ltd; Chaophraya Cold Storage Co., Ltd.; Okeanos Co., Ltd; Okeanos Food Co., Ltd.; Takzin Samut Co., Ltd. See Certain Frozen Warmwater Shrimp from Thailand: Final Results of Antidumping Duty Administrative Review, Final Determination of No Shipments, and Partial Rescission of Review; 2012-2013, 79 FR 51306 (August 28, 2014). Further, on January 5, 2016, Commerce found that Thai Union Group Public Co., Ltd. is the successor-in-interest to Thai Union Frozen Products Public Co., Ltd. See Notice of Final Results of Antidumping Changed Circumstances Review: Certain Frozen Warmwater Shrimp from Thailand, 81 FR 222 (January 5, 2016). Therefore, absent information to the contrary, we are treating these companies as a single entity for the purposes of this administrative review.

⁵ See Memorandum, “Verification of the Sales and Cost Responses of Thai Union Group Public Co., Ltd. in the 2023-2024 Antidumping Duty Administrative Review of Frozen Warmwater Shrimp from Thailand,” dated July 22, 2025.

⁶ See Memorandum, “Extension of Deadline for Final Results of the 2023-2024 Antidumping Duty Administrative Review,” dated September 17, 2025.

Due to the lapse in appropriations and Federal Government shutdown, on November 14, 2025, Commerce tolled all deadlines in administrative proceedings by 47 days.⁷ Additionally, due to a backlog of documents that were electronically filed via Enforcement and Compliance's Antidumping and Countervailing Duty Centralized Electronic Service System (ACCESS) during the Federal Government shutdown, on November 24, 2025, Commerce tolled all deadlines in administrative proceedings by an additional 21 days.⁸ Accordingly, the deadline for these final results is now February 17, 2026.

⁷ See Memorandum, “Deadlines Affected by the Shutdown of the Federal Government,” dated November 14, 2025.

⁸ See Memorandum, “Tolling of all Case Deadlines,” dated November 24, 2025.

For a complete description of the events that occurred since Commerce published the Preliminary Results and Post-Preliminary Analysis, see the Issues and Decision Memorandum.⁹ Additionally, a full discussion of the issues raised by parties for these final results are discussed in the Issues and Decision Memorandum. The Issues and Decision Memorandum is a public document and is on file electronically via ACCESS. ACCESS is available to registered users at https://access.trade.gov. In addition, a complete version of the Issues and Decision Memorandum can be accessed directly at https://access.trade.gov/public/FRNoticesListLayout.aspx.

⁹ See Memorandum, “Issues and Decision Memorandum for the Final Results of the Administrative Review of the Antidumping Duty Order on Certain Frozen Warmwater Shrimp from Thailand; 2023-2024,” dated concurrently with, and hereby adopted by, this notice (Issues and Decision Memorandum).

Scope of the Order ¹⁰

¹⁰ See Notice of Amended Final Determination of Sales at Less Than Fair Value and Antidumping Duty Order: Certain Frozen Warmwater Shrimp from Thailand, 70 FR 5145 (February 1, 2005) (Order).

The merchandise covered by the scope of the Order is shrimp from Thailand. For a complete description of the scope, see the Issues and Decision Memorandum.

Analysis of Comments Received

All issues raised in the case and rebuttal briefs submitted by interested parties in this review are addressed in the Issues and Decision Memorandum. A list of the issues addressed in the Issues and Decision Memorandum is attached to this notice as Appendix I.

Changes Since the Preliminary Results and Post-Preliminary Analysis

Based on a review of the record and comments received from interested parties regarding our Preliminary Results, we made certain changes to Thai Union and Thai Royal Frozen Food Co., Ltd.'s (Thai Royal) post-preliminary weighted-average dumping margin calculations. Additionally, we made certain changes to the selection methodology of the adverse facts available rate used in the Preliminary Results for Charoen Pokphand Foods Public Co., Ltd. (Pokphand Foods). For a full discussion of these changes, see the Issues and Decision Memorandum.

Rate for Non-Selected Companies

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review. Under section 735(c)(5)(A) of the Act, the all-others rate is normally “an amount equal to the weighted average of the estimated weighted average dumping margins established for exporters and producers individually investigated, excluding any zero and de minimis margins, and any margins determined entirely {on the basis of facts available}.”

The estimated weighted-average dumping margin established for Thai Royal is zero percent, while the rate assigned to Pokphand Foods is based on total facts available with adverse inferences, pursuant to section 776 of the Act. Section 735(c)(5)(A) of the Act states that “The estimated all-others rate shall be an amount equal to the weighted average of the estimated weighted average dumping margins established for exporters and producers individually investigated, excluding any zero and de minimis margins, and any margins determined entirely under section 776.” Accordingly, consistent with section 735(c)(5)(A) of the Act, we assigned the companies not selected for individual examination in this review a weighted-average dumping margin based on the rate of 2.01 percent calculated for Thai Union, the only calculated rate in this review that is not zero or determined entirely under section 776 of the Act. The companies not selected for individual examination are listed in Appendix II.

Final Results of Administrative Review

We determine that the following estimated weighted-average dumping margins exist for the period February 1, 2023, through January 31, 2024:

Exporter/producer | Weighted-average dumping margin (percent)
Charoen Pokphand Foods Public Co., Ltd | * 17.38
Thai Union Group Public Co., Ltd.; Thai Union Seafood Co., Ltd.; Thai Union Frozen Products Public Co. Ltd.; Pakfood Public Company Limited; Asia Pacific (Thailand) Co. Ltd.; Chaophraya Cold Storage Co., Ltd.; Okeanos Co., Ltd.; Okeanos Food Co., Ltd.; Takzin Samut Co., Ltd | 2.01
Thai Royal Frozen Foods Co., Ltd | ** 0.00
Review-Specific Rate for Non-Examined Companies ¹¹ | 2.01
* This rate is based on facts available with adverse inferences.
** de minimis.

Disclosure

¹¹ See Appendix II for a list of the non-selected companies.

Commerce intends to disclose the calculations and analysis performed in connection with these final results to interested parties within five days of any public announcement or, if there is no public announcement, within five days of the publication date of this notice in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review.

Pursuant to 19 CFR 351.212(b)(1), we calculated importer-specific ad valorem duty assessment rates based on the ratio of the total amount of dumping calculated for each importer's examined sales and the total entered value of those sales. Where either the respondent's weighted-average dumping margin is zero or de minimis within the meaning of 19 CFR 351.106(c)(1), or an importer-specific assessment rate is de minimis (i.e., less than 0.5 percent), we will instruct CBP to liquidate the appropriate entries without regard to antidumping duties. The final results of this review shall be the basis for the assessment of antidumping duties on entries of merchandise covered by the final results of this review and for future deposits of estimated duties, where applicable.¹²

¹² See section 751(a)(2)(C) of the Act.

Commerce's “automatic assessment” will apply to entries of subject merchandise during the POR produced/exported by Thai Royal or Thai Union for which the reviewed companies did not know that the merchandise they sold to an intermediary (e.g., a reseller, trading company or exporter) was destined for the United States. In such instances, we will instruct CBP to liquidate the unreviewed entries at the all-others rate made effective by the Section 129 Determination of 5.34 percent ad valorem,¹³ if there is no rate for the intermediate company(ies) involved in the transaction.

¹³ See Implementation of the Findings of the WTO Panel in United States Antidumping Measure on Shrimp from Thailand: Notice of Determination Under Section 129 of the Uruguay Round Agreements Act and Partial Revocation of the Antidumping Duty Order on Frozen Warmwater Shrimp from Thailand, 74 FR 5638 (January 30, 2009) (Section 129 Determination).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review in the Federal Register, as provided for by section 751(a)(2)(C) of the Act: (1) the cash deposit rate for companies subject to this review will be the rates established in these final results of the review; (2) for merchandise exported by producers or exporters not covered in this review but covered in a prior segment of the proceeding, the cash deposit rate will continue to be the company-specific rate published for the most recently completed segment of this proceeding; (3) if the exporter is not a firm covered in this review, a prior review, or the original investigation but the producer is, then the cash deposit rate will be the rate established for the most recently-completed segment of this proceeding for the producer of the subject merchandise; and (4) the cash deposit rate for all other producers or exporters will continue to be 5.34 percent, the all-others rate established in the Section 129 Determination.¹⁴ These cash deposit requirements, when imposed, shall remain in effect until further notice.

¹⁴ See Section 129 Determination.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: February 17, 2026.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Changes since the Preliminary Results

V. Discussion of the Issues

Comment 1: Whether to Use Average-to-Transaction (A-T) or Average-to-Average (A-A) Comparison Method

Comment 2: Differential Pricing Test

Comment 3: Whether Commerce Correctly Applied an Adverse Facts Available (AFA) Rate to Charoen Pokhand Foods Public Co., Ltd. (Charoen) and the Selection of the AFA Rate

Comment 4: Selection of Rate for Non-Individually Examined Companies

Comment 5: Whether Commerce Captured Thai Royal's Entire Universe of Sales

Comment 6: Whether to Correct the Calculation of Thai Royal's Assessment Rates

Comment 7: Whether to Grant Thai Union a Level of Trade (LOT) Adjustment and/or Constructed Export Price (CEP) Offset

Comment 8: Thai Union's Sales and Cost Databases

VI. Recommendation

Appendix II

Companies Not Selected for Individual Examination

1. B.S.A. Food Products Co., Ltd.

2. C.K. Frozen Fish and Food Co., Ltd.

3. Good Luck Product Co., Ltd.

4. I.T. Foods Industries Co., Ltd.

5. Kingfisher Holdings Ltd.; KF Foods Limited; KF Foods

6. Kitchens of the Ocean (Thailand) Company, Ltd.; Kitchens of the Ocean (Thailand) Ltd.

7. Kongphop Frozen Foods Co., Ltd.

8. Lee Heng Seafood Co., Ltd.

9. Phatthana Frozen Food Co., Ltd.

10. Seafresh Industry Public Co., Ltd.; Seafresh Fisheries

11. Tey Seng Cold Storage Co., Ltd.; Chaiwarut Co., Ltd.; Chaiwarut Company Limited

12. Thai Union Manufacturing Company Limited/

13. Xian-Ning Seafood Co., Ltd.

[FR Doc. 2026-03424 Filed 2-19-26; 8:45 am]

BILLING CODE 3510-DS-P